DEPARTMENT OF THE INTERIOR

Fish and Wildlife Service

50 CFR Part 17

RIN 1018-AG32

Endangered and Threatened Wildlife and Plants; Extending of Comment Period on Proposed Determination of Critical Habitat for the California Red-Legged Frog (Rana aurora draytonii).

AGENCY: Fish and Wildlife Service, Interior.

ACTION: Proposed rule; reopening of comment period.

SUMMARY: The U.S. Fish and Wildlife Service (Service) gives notice of the extension of the comment period on the proposed rule to designate critical habitat for the California Red-Legged Frog (Rana aurora draytonii). The extension of the comment period will be for 30 additional days. The extension of the comment period will allow all interested parties to submit written comments on the proposal. We are seeking comments or suggestions from the public, other concerned governmental agencies, the scientific community, industry, or any other interested parties concerning the proposed rule. Comments already submitted on the proposed rule need not be resubmitted as they will be fully considered in the final determination.

DATES: The comment period for this proposal now closes on November 20, 2000. Any comments received by the closing date will be considered in the final decision on this proposal.

ADDRESSES: Comments and materials concerning this proposal should be sent to the Field Supervisor, Sacramento Fish and Wildlife Office, U.S. Fish and Wildlife Service, 2800 Cottage Way, Suite W-2605, Sacramento, California 95825. Comments and materials received will be available for public inspection, by appointment, during normal business hours at the above address.

If you wish to comment, you may submit your comments and materials concerning this proposal by any one of several methods.

1. You may submit written comments and information to the Field Supervisor, Sacramento Fish and Wildlife Office, U.S. Fish and Wildlife Service, 2800 Cottage Way, Suite W-2605, Sacramento, California 95825.

2. You may also send comments by electronic mail (e-mail) to fw1crfch@fws.gov. See the Public Comments Solicited section below for file format and other information about electronic filing.

3. You may hand-deliver comments to our Sacramento Fish and Wildlife Office, U.S. Fish and Wildlife Service, 2800 Cottage Way, Suite W. 2605, Sacramento, California 95825.

FOR FURTHER INFORMATION CONTACT: Curt McCasland or Stephanie Brady, at the above address, phone 916-414-6600, facsimile 916-414-6710.

For information about Monterey, Los Angeles, San Benito, San Luis Obispo, Santa Barbara, Santa Cruz, and Ventura counties, contact Diane Noda, Ventura Fish and Wildlife Office, U.S. Fish and Wildlife Service, 2394 Portola Road, Suite B, Ventura, California 93003 (telephone 805/644-1766; facsimile 805/644-3958).

For information about areas in the San Gabriel Mountains of Los Angeles County or Riverside and San Diego counties, contact Ken Berg, Carlsbad Fish and Wildlife Office, U.S. Fish and Wildlife Service, 2730 Loker Avenue West, Carlsbad, California 92008 (telephone 760/431-9440; facsimile 760/431-9624).

SUPPLEMENTARY INFORMATION: Comments from the public regarding the accuracy of this proposed rule are sought, especially regarding:

(1) The reasons why any habitat should or should not be determined to be critical habitat for California red-legged frogs as provided by section 4 of the Act, including whether the benefits of designation will outweigh any benefits of exclusion;

(2) Specific information on the distribution of California red-legged frogs, the amount and distribution of the species' habitat, and what habitat is essential to the conservation of the species, and why;

(3) Land use practices and current or planned activities in the subject areas and their possible impacts on proposed critical habitat;

(4) Any foreseeable economic or other impacts resulting from the proposed designation of critical habitat, including, in particular, any impacts on small entities or families; and

(5) Economic and other values associated with designating critical habitat for California red-legged frogs, such as those derived from nonconsumptive uses (e.g., hiking, camping, bird-watching, enhanced watershed protection, improved air quality, increased soil retention, “existence values”, and reductions in administrative costs).

Background

On September 11, 2000, the Service published a proposed rule to designate critical habitat for the California Red-legged frog in the Federal Register (65 FR 54892). The original comment period closed on October 11, 2000. The comment period now closes on November 20, 2000. Written comments should be submitted to the Service (see ADDRESSES section).

Approximately 2,175,000 hectares (5,373,650 acres) of land fall within the boundaries of the proposed critical habitat designation. Specifically, aquatic and upland areas where suitable breeding and nonbreeding habitat is interspersed throughout the landscape and is interconnected by unfragmented dispersal habitat are areas proposed as critical habitat. Proposed critical habitat is located in Alameda, Butte, Calaveras, Contra Costa, El Dorado, Fresno, Kern, Los Angeles, Marin, Mariposa, Merced, Monterey, Napa, Plumas, Riverside, San Benito, San Diego, San Joaquin, San Luis Obispo, San Mateo, Santa Barbara, Santa Clara, Santa Cruz, Sierra, Solano, Sonoma, Stanislaus, Tehama, Tuolumne, Ventura, and Yuba counties, California. Critical habitat receives protection from destruction or adverse modification through required consultation under section 7 of the Act with regard to actions carried out, funded, or authorized by a Federal agency. Section 4 of the Act requires us to consider economic and other relevant impacts when specifying any particular area as critical habitat.

The comment period on this proposal now closes on November 20, 2000. Written comments should be submitted to the Service office listed in the ADDRESSES section.

Author: The primary authors of this notice are Curt McCasland and Stephanie Brady (see ADDRESSES section).

Authority: The authority for this action is the Endangered Species Act of 1973 (16 U.S.C. 1531 et seq.).

Dated: October 12, 2000.
Elizabeth H. Stevens,
Acting Manager.

[FR Doc. 00-26704 Filed 10-18-00; 8:45 am]

BILLING CODE 4310-55-P